COURT SERVICES AND OFFENDER SUPERVISION AGENCY FOR THE DISTRICT OF COLUMBIA

Publication of Fiscal Year 2012 Service Contract Inventory

AGENCY: Court Services and Offender Supervision Agency for the District of Columbia.

ACTION: Notice of Public Availability of FY 2012 Service Contract Inventory.

SUMMARY: In accordance with Section 743 of Division C of the FY2010 Consolidated Appropriations Act, the Court Services and Offender Supervision Agency (CSOSA) hereby advises the public of the availability of the FY 2012 Service Contract Inventory. This inventory provides information on service contract actions over $25,000 that were made in FY 2012. The information is organized by function to show how contracted resources are distributed throughout the agency. This inventory has been developed in accordance with guidance issued on November 5, 2010, and December 19, 2011, by the Office of Management and Budget's Office of Federal Procurement Policy. CSOSA's FY 2012 Service Contract Inventory is available on its Web site at: http://www.csosa.gov/about/mandated-reports.aspx.

FOR FURTHER INFORMATION CONTACT: Inventory Information: Jim Williams, Associate Director, Office of Management and Administration, Court Services and Offender Supervision Agency, 633 Indiana Avenue NW., Washington, DC 20004, (202) 220-5707, or jim.williams@csosa.gov.

Notice Information: Rorey Smith, Deputy General Counsel, Court Services and Offender Supervision Agency, 633 Indiana Avenue NW., Washington, DC 20004, (202) 220-5797, or rorey.smith@csosa.gov.

Rorey Smith,
Deputy General Counsel, Office of the General Counsel.

[FR Doc. 2013-07197 Filed 3-27-13; 8:45 am]

BILLING CODE 3129-04-P